DEPARTMENT OF DEFENSE

Office of the Secretary

Department of Defense Board of Actuaries; Notice of Federal Advisory Committee Meeting

AGENCY: Under Secretary of Defense for Personnel and Readiness, Department of Defense Board of Actuaries, Department of Defense.

ACTION: Notice of federal advisory committee meeting.

SUMMARY: The Department of Defense (DoD) is publishing this notice to announce that the following Federal Advisory Committee meeting of the Department of Defense Board of Actuaries will take place.

DATES: Day 1—Open to the public Thursday, July 11, 2019, from 1:00 p.m. to 4:00 p.m. Day 2—Open to the public Friday, July 12, 2019, from 10:00 a.m. to 1:00 p.m.

ADDRESSES: The address of the meeting is 4800 Mark Center Drive, Conference Room 14, Level B1, Alexandria, VA 22350.

FOR FURTHER INFORMATION CONTACT: Inger Pettygrove, (703) 225-8803 (Voice), inger.m.pettygrove.civ@mail.mil (Email). Mailing address is Defense Human Resources Activity, DoD Office of the Actuary, 4800 Mark Center Drive, STE 03E25, Alexandria, VA 22350-8000. Website: https://actuary.defense.gov/. The most up-to-date changes to the meeting agenda can be found on the website.

SUPPLEMENTARY INFORMATION: This meeting is being held under the provisions of the Federal Advisory Committee Act (FACA) of 1972 (5 U.S.C., Appendix, as amended), the Government in the Sunshine Act of 1976 (5 U.S.C. 552b, as amended), and 41 CFR 102-3.140 and 102-3.150.

Purpose of the Meeting: The purpose of the meeting is for the Board to review DoD actuarial methods and assumptions to be used in the valuations of the Education Benefits Fund, the Military Retirement Fund, and the Voluntary Separation Incentive (VSI) Fund, in accordance with the provisions of Section 183, Section 2006, Chapter 74 (10 U.S.C. 1464 et seq.), and Section 1175 of Title 10, U.S.C.

Agenda:

Education Benefits Fund (July 11, 1:00 p.m.-4:00 p.m.)

1. Fund Overview

2. Briefing on Investment Experience

3. September 30, 2018, Valuation Proposed Economic Assumptions *

4. September 30, 2018, Valuation Proposed Methods and Assumptions—Reserve Programs *

5. September 30, 2018, Valuation Proposed Methods and Assumptions—Active Duty Programs *

6. Developments in Education Benefits

Military Retirement Fund/VSI Fund (July 12, 10:00 a.m.-1:00 p.m.)

1. Recent and Proposed Legislation

2. Briefing on Investment Experience

3. September 30, 2018, Valuation of the Military Retirement Fund *

4. Proposed Methods and Assumptions for September 30, 2019, Valuation of the Military Retirement Fund *

5. Proposed Methods and Assumptions for September 30, 2018, VSI Fund Valuation *

* Board approval required.

Meeting Accessibility: Pursuant to 5 U.S.C. 552b and 41 CFR 102-3.140 through 102-3.165, and the availability of space, this meeting is open to the public. The Mark Center is an annex of the Pentagon. Those without a valid DoD Common Access Card must contact Kathleen Ludwig at 571-372-1993 no later than June 14, 2019. Attendees should secure their meeting reservations before this deadline to avoid any issues with building access. It is strongly recommended that attendees plan to arrive at the Mark Center at least 30 minutes prior to the start of the meeting.

Written Statements: Persons desiring to attend the DoD Board of Actuaries meeting or make an oral presentation or submit a written statement for consideration at the meeting must notify Kathleen Ludwig at 571-372-1993, or Kathleen.A.Ludwig.civ@mail.mil, by June 14, 2019.

Dated: February 25, 2019.
Shelly E. Finke,
Alternate OSD Federal Register Liaison Officer, Department of Defense.

[FR Doc. 2019-03551 Filed 2-27-19; 8:45 am]

BILLING CODE 5001-06-P